OFFICE OF PERSONNEL MANAGEMENT

Submission for Review: Reinstatement of Disability Annuity Previously Terminated Because of Restoration to Earning Capacity, RI 30-9, 3206-0138

AGENCY: Office of Personnel Management.

ACTION: 30-Day notice and request for comments.

SUMMARY: In accordance with the Paperwork Reduction Act of 1995, OPM is proposing an extension to a currently approved information collection, OMB Control Number, 3206-0138: RI 30-9—Reinstatement of Disability Annuity Previously Terminated Because of Restoration to Earning Capacity.

DATES: Comments are encouraged and will be accepted until April 29, 2024.

ADDRESSES: Written comments and recommendations for this proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: For specific questions related to this information collection activity, please contact: Retirement Services Publications Team, Office of Personnel Management, 1900 E Street NW, Room 3316-L, Washington, DC 20415, Attention: Cyrus S. Benson, or via electronic mail at RSPublicationsTeam@opm.gov or by fax at (202) 606-0910 or via telephone at (202) 936-0401.

SUPPLEMENTARY INFORMATION: The Office of Personnel Management, in accordance with the Paperwork Reduction Act of 1995 (PRA) (44 U.S.C. 3506(c)(2)(A)), provides the public with an opportunity to comment on proposed, revised, and continuing collections of information. This helps the Agency assess the impact of its information collection requirements and minimize the public's reporting burden. It also helps the public understand the Agency's information collection requirements and provide the requested data in the desired format. This information collection (OMB No. 3206-0138) was previously published in the Federal Register on May 3, 2023, at 88 FR 27926, allowing for a 60-day public comment period. No comments were received for this collection.

The purpose of this notice is to allow an additional 30 days for public comments. OPM is soliciting comments on the proposed information collection request (ICR) that is described below. OMB is especially interested in public comment addressing the following issues: (1) whether this collection is necessary to the proper functions of the Agency; (2) whether this information will be processed and used in a timely manner; (3) the accuracy of the burden estimate; (4) ways the Agency can enhance the quality, utility, and clarity of the information to be collected; and (5) ways the Agency can minimize the burden of this collection on the respondents, including through the use of information technology. Written comments received in response to this notice will be considered public records.

Analysis

Agency: Retirement Operations, Retirement Services, Office of Personnel Management.

Title: Reinstatement of Disability Annuity Previously Terminated Because of Restoration to Earning Capacity.

OMB Number: 3206-0138.

Affected Public: Individuals or Households.

Number of Respondents: 200.

Estimated Time per Respondent: 60 minutes.

Total Burden Hours: 200.

Office of Personnel Management.
Kayyonne Marston,
Federal Register Liaison.

[FR Doc. 2024-06674 Filed 3-28-24; 8:45 am]

BILLING CODE 6325-38-P